DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of Intent to Evaluate and Notice of Availability of Final Findings.

SUMMARY: The NOAA Office of Ocean and Coastal Resource Management (OCRM) announces its intent to evaluate the performance of the Hawaii Coastal Management Program, the Minnesota Coastal Management Program, the San Francisco (California) Bay Conservation and Development Commission, and the California State Coastal Conservancy.

The Coastal Zone Management Program evaluations will be conducted pursuant to section 312 of the Coastal Zone Management Act of 1972, as amended (CZMA) and regulations at 15 CFR part 923, Subpart L. The CZMA requires continuing review of the performance of states with respect to coastal program implementation. Evaluation of Coastal Management Programs requires findings concerning the extent to which a state has met the national objectives, adhered to its Coastal Management Program document approved by the Secretary of Commerce, and adhered to the terms of financial assistance awards funded under the CZMA.

Each evaluation will include a site visit, consideration of public comments, and consultations with interested Federal, state, and local agencies and members of the public. A public meeting will be held as part of the site visit. Notice is hereby given of the dates of the site visits for the listed evaluations, and the dates, local times, and locations of the public meetings during the site visits.

Dates and Times: The Hawaii Coastal Management Program evaluation site visit will be held July 25-August 4, 2008. One public meeting will be held during the week. The public meeting will be held on Wednesday, July 30, 2008, at 7 p.m. at the Hilo State Office Building, Conference Rooms A, B, and C, 75 Aupuni Street, Hilo, Hawaii.

Minnesota's Lake Superior Coastal Program evaluation site visit will be held August 4-8, 2008. One public meeting will be held during the week. The public meeting will be held on Monday, August 4, 2008, at 6 p.m. at the Lafayette Community Center, 3026 Minnesota Avenue, Duluth, Minnesota.

The joint San Francisco (California) Bay Conservation and Development Commission and the California State Coastal Conservancy evaluation site visit will be held September 22-26, 2008. One public meeting will be held during the week. The public meeting will be held on Tuesday, September 23, 2008, at 7 p.m. at the San Francisco Bay Conservation and Development Commission, McAteer-Petris Conference Room, 50 California Street, San Francisco, California.

ADDRESSES: Copies of states' most recent performance reports, as well as OCRM's evaluation notification and supplemental information request letters to the states, are available upon request from OCRM. Written comments from interested parties regarding these Programs are encouraged and will be accepted until 15 days after the public meeting held for a Program. Please direct written comments to Kate Barba, Chief, National Policy and Evaluation Division, Office of Ocean and Coastal Resource Management, NOS/NOAA, 1305 East-West Highway, 10th Floor, N/ORM7, Silver Spring, Maryland 20910. When the evaluation is completed, OCRM will place a notice in the Federal Register announcing the availability of the Final Evaluation Findings.

SUPPLEMENTARY INFORMATION: Notice is hereby given of the availability of the final evaluation findings for the Ohio Coastal Management Program (CMP). Section 312 of the Coastal Zone Management Act of 1972 (CZMA), as amended, requires a continuing review of the performance of coastal states with respect to approval of CMPs.

The state of Ohio was found to be implementing and enforcing its federally approved coastal management programs addressing the national coastal management objectives identified in CZMA Section 303(2)(A)-(K), and adhering to the programmatic terms of its financial assistance awards.

A copy of these final evaluation findings may be obtained upon written request from: Kate Barba, Chief, National Policy and Evaluation Division, Office of Ocean and Coastal Resource Management, NOS/NOAA, 1305 East-West Highway, 10th Floor, N/ORM7, Silver Spring, Maryland 20910, or Kate.Barba@noaa.gov.

FOR FURTHER INFORMATION CONTACT: Kate Barba, Chief, National Policy and Evaluation Division, Office of Ocean and Coastal Resource Management, NOS/NOAA, 1305 East-West Highway, 10th Floor, N/ORM7, Silver Spring, Maryland 20910, (301) 563-1182.

Federal Domestic Assistance Catalog 11.419, Coastal Zone Management Program Administration.

Dated: June 12, 2008.
David M. Kennedy,
Director, Office of Ocean and Coastal Resource Management, National Ocean Service, National Oceanic and Atmospheric Administration.

[FR Doc. E8-13747 Filed 6-17-08; 8:45 am]

BILLING CODE 3510-08-P